DEPARTMENT OF THE INTERIOR

Bureau of Reclamation

Joint Operations Center Relocation Project, Sacramento County, CA

AGENCY: Bureau of Reclamation, Interior.

ACTION: Notice of intent to prepare an environmental impact statement/environmental impact report (EIS/EIR) and notice of public scoping meetings.

SUMMARY: Pursuant to the National Environmental Policy Act and the California Environmental Quality Act, the Bureau of Reclamation (Reclamation), the lead Federal agency, and the California Department of Water Resources (DWR), the lead State agency, will prepare a joint EIS/EIR for the proposed Joint Operations Center (JOC) Relocation Project (Proposed Action). The purpose of the Proposed Action is to construct a new JOC in the Sacramento area to be occupied by June 2015. The new JOC would provide typical office space and special needs/essential services space for combined occupancy by Reclamation, DWR, and the NOAA's National Weather Service (NWS) to replace jointly occupied space at 3310 El Camino Avenue in Sacramento.

DATES: Written comments on the scope of the EIS/EIR will be accepted until February 17, 2011.

Two public scoping meetings will be held to solicit public input on the scope and content of the EIS/EIR:

• Thursday February 3, 2011, 2 p.m. to 4 p.m., Sacramento, California.

• Thursday February 3, 2011, 6:30 p.m. to 8:30 p.m., Sacramento, California.

ADDRESSES: Send written comments on the content and scope of the EIS/EIR to Ms. Elizabeth Vasquez, Division of Environmental Affairs, Bureau of Reclamation, 2800 Cottage Way, Sacramento, CA 95825 or e-mail evasquez@usbr.gov.

The public scoping meetings will be held at Sacramento State Aquatics Center, 1901 Hazel Avenue, Gold River, California.

FOR FURTHER INFORMATION CONTACT: Ms. Elizabeth Vasquez, 916-978-5040; e-mail at evasquez@usbr.gov.

SUPPLEMENTARY INFORMATION: As with the currently occupied space, the proposed JOC would be shared by the following departments:

• DWR's Division of Operations and Maintenance, Operations Control Office, State Water Project Power and Risk Office, and Division of Flood Management offices;

• Reclamation's Central Valley Project Operations Office; and

• The National Oceanic and Atmospheric Administration's NWS and River Forecast Center.

Along with evaluating a No-Action Alternative, the EIS/EIR will analyze two potential sites for the proposed JOC at an equal level of detail—both of which are located in Sacramento County, California. The sites under consideration are:

• Site 1 (Preferred): The Nimbus site is an 18-acre parcel owned by Reclamation and located adjacent to the California Department of Fish and Game (DFG) Nimbus Fish Hatchery, near the Nimbus Dam on the American River. The site is adjacent to the Upper Sunrise Area of the American River Parkway and contains dredge spoils from gold mining on the American River. Access to the site is from U.S. Highway 50 via Hazel Avenue and Gold Country Boulevard.

• Site 2: The Kilgore/Crawford site is a privately owned 18-acre property located northeast of the intersection of Kilgore Road and Crawford Drive. The site is in a commercial area adjacent to office buildings and is bounded on the south side by the Folsom South Canal. Access to the site is from U.S. Highway 50 via Sunrise Boulevard and Kilgore Road.

At this time, there are no known Indian trust assets or environmental justice issues associated with the Proposed Action.

Special Assistance for Public Scoping Meetings

If special assistance is required to participate in the public scoping meetings, please contact Ms. Elizabeth Vasquez (see FOR FURTHER INFORMATION CONTACT above) as far in advance as possible to enable Reclamation to secure the needed services. If a request cannot be honored, the requestor will be notified. A telephone device for the hearing impaired (TDD) is available at 916-989-7285.

Public Disclosure

Before including your name, address, phone number, e-mail address, or other personal identifying information in your comment, you should be aware that your entire comment—including your personal identifying information—may be publicly available at any time. While you can ask us, in your comment, to withhold your personal identifying information from public review, we cannot guarantee that we will be able to do so.

Dated: November 23, 2010.
Anastasia T. Leigh,
Acting Regional Environmental Officer, Mid-Pacific Region.

[FR Doc. 2011-1004 Filed 1-18-11; 8:45 am]

BILLING CODE 4310-MN-P